FEDERAL COMMUNICATIONS COMMISSION

47 CFR Part 73

[DA 05-2208; MB Docket No. 05-245; RM-11264]

Radio Broadcasting Services; Sierra Vista and Tanque Verde, AZ

AGENCY: Federal Communications Commission.

ACTION: Proposed rule.

SUMMARY: The Audio Division seeks comment on a petition filed by CCR-Sierra Vista IV, LLC, licensee of FM Station KZMK, Channel 265A, Sierra Vista, Arizona, proposing the reallotment of Channel 265A from Sierra Vista to Tanque Verde, Arizona, as its first local service and modification of the FM Station KZMK(FM) license accordingly. Channel 265A can be allotted to Tanque Verde in conformity with the Commission's rules, provided there is a site restriction of 9.2 kilometers (5.7 miles) north at reference coordinates 32-19-59 NL and 110-45-19 WL. Tanque Verde is located within 320 kilometers (199 miles) of the U.S.-Mexican border and the proposed reallotment is short-spaced to Mexican vacant Channel 266B, Sasabe, SO by 3.1 kilometers. As such, Mexican concurrence for this proposed reallotment has been requested as a specially negotiated short-spaced limited allotment. In accordance with the provisions of Section 1.420(i) of the Commission's rules, we shall not accept competing expressions of interest pertaining to the use of Channel 265A at Tanque Verde.

DATES: Comments must be filed on or before September 19, 2005, and reply comments on or before October 4, 2005.

ADDRESSES: Federal Communications Commission, 445 Twelfth Street, SW., Washington, DC 20554. In addition to filing comments with the FCC, interested parties should serve counsel, as follows: Howard M. Liberman, Esq., Elizabeth A. Hammond, Esq., Counsel for CCR-Sierra Vista IV, LLC, Drinker Biddle & Reath LLP, 1500 K Street, NW., Suite 1100, Washington, DC 20005.

FOR FURTHER INFORMATION CONTACT: Rolanda F. Smith, Media Bureau, (202) 418-2180.

SUPPLEMENTARY INFORMATION: This is a summary of the Commission's Notice of Proposed Rule Making, MB Docket No. 05-245, adopted July 27, 2005, and released July 29, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 265A at Sierra Vista and by adding Tanque Verde, Channel 265A.

Federal Communications Commission.
John A. Karousos,
Assistant Chief, Audio Division, Media Bureau.

[FR Doc. 05-16064 Filed 8-16-05; 8:45 am]

BILLING CODE 6712-01-P